DEPARTMENT OF THE TREASURY

Internal Revenue Service

Open Meeting of the Taxpayer Advocacy Panel's Toll-Free Phone Line Project Committee

AGENCY: Internal Revenue Service (IRS), Treasury.

ACTION: Notice of meeting.

SUMMARY: Notice is hereby given for an open meeting of the Taxpayer Advocacy Panel Toll-Free Phone Line Project Committee scheduled for Thursday, March 26, 2020 and Friday, March 27, 2020. This meeting was originally published in the Federal Register on March 9, 2020, (Volume 85, Number 46, Page 13706) as a face to face meeting. Out of an abundance of caution, certain government travel has been temporarily suspended. Due to these circumstances, we will not be able to meet the 15-calendar notice threshold. This meeting will now proceed via teleconference.

FOR FURTHER INFORMATION CONTACT: Rosalind Matherne at 1-888-912-1227 or 202-317-4115.

SUPPLEMENTARY INFORMATION: Notice is hereby given pursuant to Section 10(a)(2) of the Federal Advisory Committee Act, 5 U.S.C. App. (1988) that an open meeting of the Taxpayer Advocacy Panel Toll-Free Phone Line Project Committee will be held Thursday, March 26, 2020, from 1:00 p.m. to 3:00 p.m. Eastern Time and Friday, March 27, 2020, from 1:00 a.m. until 3:00 p.m. Eastern Time. The public is invited to make oral comments or submit written statements for consideration. Due to limited time and structure of meeting, notification of intent to participate must be made with Rosalind Matherne. For more information please contact Rosalind Matherne at 1-888-912-1227 or 202-317-4115, or write TAP Office, 1111 Constitution Ave. NW, Room 1509, Washington, DC 20224 or contact us at the website: http://www.improveirs.org. The agenda will include various IRS issues.

Dated: March 12, 2020.
Kevin Brown,
Acting Director, Taxpayer Advocacy Panel.

[FR Doc. 2020-05660 Filed 3-17-20; 8:45 am]

BILLING CODE 4830-01-P